DEPARTMENT OF HEALTH AND HUMAN SERVICES

Centers for Disease Control and Prevention

Centers for Disease Control and Prevention (CDC) Request for Comments on Electronic Grants (E-Grants) Plans

AGENCY: Centers for Disease Control and Prevention (CDC), Department of Health and Human Services (DHHS).

ACTION: Notice and request for comments.

SUMMARY: CDC is seeking comments on intent to develop an electronic grants system for completing grants transactions electronically via the Internet.

DATES: November 27, 2000.

ADDRESSES: Centers for Disease Control and Prevention, Attention: Jim Seligman, E-Grants, 1600 Clifton Rd, MS D15, Atlanta, GA 30333.

FOR FURTHER INFORMATION CONTACT: via e-mail: CDCegrants@cdc.gov, or via facsimile: E-Grants (attention Jim Seligman) at 404-639-7113.

SUPPLEMENTARY INFORMATION: The Centers for Disease Control and Prevention (CDC) is exploring ways to streamline and improve business processes with the agency's customers. To this end, CDC is planning an Electronic Grants (E-Grants) system to enable the submission of electronic grant proposals, their review, and award. CDC is reviewing other federal E-Grants systems for potential CDC use; however, CDC wants to ensure that the agency understands the needs of CDC's unique grants customers in determining the best E-Grants approach for CDC. While the primary purpose of this request is to obtain information and comments on CDC's move to an electronic grants system, other suggestions for improving the CDC grants process are welcome.

CDC plans to offer an electronic grants application and review process consistent with recent federal laws, e.g. the Government Paperwork Elimination Act, Public Law 105-277, Title XVII (http://cio.gov/docs/gpea2.htm), the Electronic Signatures in Global and National Commerce Act, Public Law 106-229 (http://thomas.loc.gov/cgi-bin/query/z?c106:S.761.ENR:), and the Federal Financial Assistance Management Improvement Act, Public Law 106-107 (http://thomas.loc.gov/cgi-bin/query/z?c106:S.468.ENR:). CDC is a participating member of the Interagency Electronic Grants Committee (IAEGC) (http://www.financenet.gov/iaegc.htm) and the federal commons (http://www.fedcommons.gov), the common face of Government to the Grantee Organization Community for the purposes of pre- and post-award administration.

Although CDC views the emergence of Electronic Commerce (E-Commerce) as a means of reducing the burden on organizations as they interact with CDC, the agency also recognizes that some of the agency's customers and/or potential customers may not have the capability to migrate to an E-Grants environment. Therefore, CDC intends to maintain the current paper-based interaction process for the foreseeable future while increasing electronic access to the agency's grants management processes. Consequently, equity between non-electronic and electronic processes will be maintained.

Currently, CDC offers funding application materials and related services via fax, email, Internet listservs, and as downloadable files or printable forms on the Internet through CDC's website (http://www.cdc.gov/funding.htm). Many U.S. Department of Health and Human Services (DHHS) grant application forms are now available at (http://www.hhs.gov/grantsnet/) on the Internet as files which can be saved and used in electronic formats.

As CDC moves towards increased use of electronic announcements regarding the availability of funds, CDC seeks to understand unique needs and desires among the agency's diverse customers. For this reason CDC requests and welcomes comments from customers regarding all aspects of “E-Grants” including but not limited to the following areas:

IT Infrastructure

CDC business customers (grantees and applicants) would need a computer, printer, connection to the Internet, web browser capable of 128-bit encrypted secure transmissions (e.g. Microsoft Internet Explorer version 4.01 or greater or Netscape Communicator version 4.07 or greater, both are currently downloadable for no cost from the manufacturers; Microsoft: at http://www.microsoft.com and Netscape: http://www.netscape.com), word processing or text editing software for preparation of documents in a standard format, e.g. RTF, ASCII, HTML, Adobe Acrobat® reader (downloadable for no cost from the manufacturer at http://www.adobe.com/), and electronic mail service. CDC welcomes comments about the use of these technologies.

Existing E-Grants Systems

CDC knows of existing software available to universities which supports grants applications and management activities, but is unaware of which are the leading systems currently in use in universities. Similarly, CDC knows of other Federal agencies beginning to use “E-Grants” systems. CDC is interested in knowing whether CDC grantees and potential applicants are using these systems or have considered the use of these systems and what the experience has been. If you, or your organization have similar plans or experiences with E-Commerce, E-Grants, or knowledge of the use of commercial off-the-shelf packages, that information would be particularly meaningful to CDC.

Electronic Forms

CDC frequently makes electronic copies of application materials, including standard Federal forms, available on the web for downloading and/or printing. CDC is interested in whether customers find this useful or would prefer paper forms.

E-Signature

CDC requires the use of several assurance and certification documents in the process to make awards. The agency is interested in whether grantees or potential applicants may already be using electronic signatures in lieu of paper-based signatures for legally-binding government grant and/or contract activities and, if so, which technologies.

Virtual Reviews

CDC conducts expert review of both scientific and programmatic applicants for funding. Reviewers are often required to participate in review activities on-site at the agency or within a short distance from the agency's facility. CDC is interested in knowing whether the use of distance-based reviews conducted electronically would impact the quality of peer reviews and pose a barrier to or enhance the recruitment of external reviewers for panels, and to what extent you've already participated in distance-based reviews.

Please send comments or questions within 60 days of this published notice:

via e-mail to: CDCegrants@cdc.gov

via facsimile to: E-Grants (attention Jim Seligman) at 404-639-7113

via letter to: Centers for Disease Control and Prevention, Attention: Jim Seligman E-Grants, 1600 Clifton Rd, MS D15, Atlanta, GA 30333.

Please provide a point of contact with your comments for any follow-up questions CDC may have and indicate the type of organization you represent, e.g. university, state government, local government, community based organization, etc. CDC intends to use the information and comments received in response to this notice in its planning process for an electronic grants system. No summary of comments or published response to comments is planned. All comments received by the agency will be considered to be in the public domain.

Dated: September 21, 2000.
Joseph R. Carter,
Associate Director for Management and Operations, Centers for Disease Control and Prevention.

[FR Doc. 00-24754 Filed 9-27-00; 8:45 am]

BILLING CODE 4163-18-P